PEACE CORPS

Notice of Information Collection for Review by OMB and Public Comment on Peace Corps' Intention To Conduct a Survey of and Focus Groups With Returned Peace Corps Volunteers

AGENCY: Peace Corps.

ACTION: Notice of information collection for review by OMB and public comment on Peace Corps' Intention to Conduct A Survey of and Focus Groups with Returned Peace Corps Volunteers.

SUMMARY: In accordance with the Paperwork Reduction Act, this notice invites the public to comment on the collection of information by the Peace Corps and gives notice of the Peace Corps' intention to request Office of Management and Budget (OMB) approval of the information collection. The Peace Corps' Office of Strategic Information, Research and Planning wishes to survey a sample of Returned Peace Corps Volunteers about their in-country experience, post-service transition, post-service education and career, and their third core goal activities of promoting a better understanding of other peoples on the part of Americans. In concert with the survey, the Peace Corps' Office of Strategic Information, Research and Planning also wishes to conduct focus groups with Returned Peace Corps Volunteers (RPCVs) about their post-service education and career. The data collected from both the survey and the focus groups will inform agency programming and help the Agency to assess, based on analysis of this updated and objective data, the extent of RPCVs' cross-cultural activities with their family, friends, and communities throughout the United States with whom RPCVs come in contact. The data will be used specifically by the Office of Domestic Programs to review the range and type of services and support rated as useful by RPCVs. The data will be used by the Peace Corps' Office of Strategic Information, Research and Planning to support Agency level reporting. Submit comments on or before sixty days from June 29, 2009.

ADDRESSES: Comments should be addressed to Susan Jenkins, Office of Strategic Information, Research and Planning, Peace Corps, 1111 20th Street, NW., Washington, DC 20526. Dr. Jenkins can be contacted by telephone at 202-692-1241 or e-mail at SJenkin2@peacecorps.gov. E-mail comments must be made in text and not in attachments.

FOR FURTHER INFORMATION CONTACT: Susan Jenkins, Office of Strategic Information, Research and Planning, Peace Corps, 1111 20th Street, NW., Washington, DC 20526.

Need For and Use of This Information: The survey is the fourth in a series of Returned Peace Corps Volunteer surveys that have been administered approximately every ten years. This iteration will be a voluntary, Web-based survey to gather information about Volunteers' in-country experience, post-service transition, post-service education and career, and their third goal activities of promoting a better understanding of other peoples on the part of Americans. The data will be used to assess the range and type of services available to RPCVs, improve Peace Corps operations (e.g., recruitment for the Peace Corps Response program), and support Agency level performance reporting. Where possible, data will be compared across surveys to look for trends over time. Data will be collected from a simple random sample of Returned Peace Corps Volunteers sufficient to gather data with a 99 percent confidence level and a confidence interval of plus or minus 5.

The focus group questions focus on a subset of the topics asked about through the survey. Specifically, the focus groups will provide more detailed responses from RPCVs about the effect of the Peace Corps on their subsequent career choices and paths.

Respondents: Returned Peace Corps Volunteers.

Respondents' Obligation To Reply: Voluntary.

Burden on the Public:

a. Annual reporting burden: 894 (750 hours for the survey and 144 hours across the focus groups).

b. Annual respondent recordkeeping burden: 0 hours.

c. Estimated average burden per response: 30 minutes for survey respondents and 90 minutes for focus group participants.

d. Frequency of response: One time.

e. Estimated number of respondents: 1596 (1500 survey respondents and 96 focus group participants).

f. Estimated cost to respondents: $0.00/$0.00.

Dated: April 21, 2009.
Garry Stanberry,
Deputy Associate Director for Management.

[FR Doc. E9-9942 Filed 4-29-09; 8:45 am]

BILLING CODE 6051-01-P